FEDERAL MINE SAFETY AND HEALTH REVIEW COMMISSION

Sunshine Act; Meeting

March 22, 2006.

Time and Date: 10 a.m., Thursday, April 6, 2006.

Place: The Richard V. Backley hearing Room, 9th Floor, 601 New Jersey Avenue, NW., Washington, DC.

Status: Open.

Matters To Be Considered: The commission will consider and act upon the following in open session: Secretary of Labor on behalf of Wendell McClain, Coy McClain, Wade Dameron, and Gary Conway v. Misty Mountain Mining, Inc., Stanley Osborne, and Simon Ratliff, Docket Nos. KENT 2005-96-D, KENT 2005-97-D, KENT 2005-98-D, and KENT 2005-99-D. (Issues include whether the Administrative law Judge properly awarded back pay in an amount reduced from that sought by the Secretary, and properly concluded that the complainants were not entitled to a further reinstatement offer once they had turned down such offers).

Any person attending this meeting who requires special accessibility features and/or auxiliary aids, such as sign language interpreters, must inform the Commission in advance of those needs, subject to 29 CFR 2706.150(a)(3) and 2706.160(d).

FOR FURTHER INFORMATION CONTACT: Jean Ellen, (202) 434-9950/(202) 708-8300 for TDD Relay/1-800-8339 for toll free.

Jean H. Ellen,
Chief Docket Clerk.

[FR Doc. 06-3184 Filed 3-29-05; 4:34 pm]

BILLING CODE 6735-01-M